DEPARTMENT OF HEALTH AND HUMAN SERVICES

Centers for Disease Control and Prevention

Guide to Community Preventive Services (GCPS) Task Force: Meeting

Name: Task Force on Community Preventive Services.

Times and Dates: 8:30 a.m.-5:15 p.m., February 26, 2003. 8 a.m.-1:45 p.m., February 27, 2003.

Place: The Sheraton Colony Square, 188 14th Street, NE., Atlanta, Georgia 30361, telephone (404) 892-6000.

Status: Open to the public, limited only by the space available.

Purpose: The mission of the Task Force is to develop and publish a Guide to Community Preventive Services, which is based on the best available scientific evidence and current expertise regarding essential public health and what works in the delivery of those services.

Matters to be Discussed: Agenda items include: Briefings on administrative information, methods and intervention reviews; a strategic planning session and sessions to approve recommendations for the following interventions:

Client Reminders for Colorectal Cancer Screening—Small Media Education for Cancer Screening—Collaborative Care for Improving Treatment for Depression—Treating Juveniles as Adults in the Criminal Justice System.

Agenda items are subject to change as priorities dictate.

Contact Person for Additional Information: Stephanie Zaza, M.D., Chief, Community Guide Branch, Division of Prevention Research and Analytic Methods, Epidemiology Program Office, CDC, 4770 Buford Highway, M/S K-73, Atlanta, Georgia, telephone 770/488-8189.

Persons interested in reserving a space for this meeting should call 770/488-8189 by close of business on February 24, 2003.

The Director, Management Analysis and Services Office, has been delegated the authority to sign Federal Register notices pertaining to announcements of meetings and other committee management activities, for both the Centers for Disease Control and Prevention and the Agency for Toxic Substances and Disease Registry.

Dated: February 19, 2003.
Alvin Hall,
Director, Management Analysis and Services Office, Centers for Disease Control and Prevention.

[FR Doc. 03-4345 Filed 2-24-03; 8:45 am]

BILLING CODE 4163-18-P